DEPARTMENT OF THE INTERIOR

Fish and Wildlife Service

50 CFR Part 17

[FWS-R1-ES-2008-0073; 14420-1113-0000-C5]

Endangered and Threatened Wildlife and Plants; 90-Day Finding on a Petition To Remove the Bliss Rapids Snail (Taylorconcha serpenticola) From the List of Endangered and Threatened Wildlife; Notice of Document Availability.

AGENCY: Fish and Wildlife Service, Interior.

ACTION: Notice of document availability.

SUMMARY: We, the U.S. Fish and Wildlife Service (Service), announce the availability of new information that may impact our status review for the Bliss Rapids snail (Taylorconcha serpenticola). This information has become available since the close of the comment period on our 90-day finding (72 FR 31250) on a petition to remove the Bliss Rapids snail from the Federal List of Endangered and Threatened Wildlife, pursuant to the Endangered Species Act of 1973, as amended (Act). Interested members of the public are invited to submit comments on this new information as it applies to the listing status of the Bliss Rapids snail.

DATES: To ensure consideration in the 12-month finding on this petition, comments and information should be submitted to us by August 27, 2008.

ADDRESSES: You may submit comments by one of the following methods:

• Federal eRulemaking Portal: http://www.regulations.gov. Follow the instructions for submitting comments.

• U.S. mail or hand-delivery: Public Comments Processing, Attn: Docket FWS-R1-ES-2008-0073; Division of Policy and Directives Management; U.S. Fish and Wildlife Service; 4401 N. Fairfax Drive, Suite 222; Arlington, VA 22203.

We will not accept e-mail or faxes. We will post all comments on: http://www.regulations.gov. This generally means that we will post any personal information you provide us (see below for more information).

FOR FURTHER INFORMATION CONTACT: Jeffery L. Foss, Field Supervisor, U.S. Fish and Wildlife, Service Snake River Fish and Wildlife Office, by mail at 1387 S. Vinnell Way, Room 368, Boise, ID 83709; by telephone at 208/378-5243; by facsimile at 208/378-5262; or by electronic mail at: fw1srbocomment@fws.gov.

SUPPLEMENTARY INFORMATION:

Background

On December 26, 2006, we received a petition filed by the State of Idaho and the Idaho Power Company to remove the Bliss Rapids snail from the Federal List of Endangered and Threatened Wildlife in accordance with the provisions of section 4 of the Act.

On June 6, 2007, we published a substantial 90-day finding on the petition to remove the Bliss Rapids snail from the List of Endangered and Threatened Wildlife (72 FR 31250), initiated a status review, and opened a 60-day public comment period. Subsequent to the public comment period, new information has become available that is relevant to our status review. To ensure that the status review is complete and based on the best available scientific information, we are soliciting information on this new information as it relates to the listing status of the Bliss Rapids snail. The new information includes a draft status review for the Bliss Rapid Snail (Draft Status Review), prepared in February 2008; peer reviews of the Draft Status Review; a manuscript examining the genetic structure of Bliss Rapids snail populations; and documentation from a recent expert panel convened to assess the status of the Bliss Rapids snail.

Comments particularly are sought concerning:

(1) Information and data in the Draft Status Review;

(2) Peer review comments on the Draft Status Review;

(3) The relevance of the new genetic information to the listing status of the Bliss Rapids snail;

(4) Information and data used by the expert panel; and,

(5) The expert panel's discussion of threats to the Bliss Rapids snail and ongoing conservation actions or regulatory actions that address these threats.

These materials are available for review at the following Web sites:

http://www.regulations.gov.

http://www.fws.gov/idaho/Index.cfm.

If you wish to comment, you may submit your comments and materials concerning this new information related to the petition finding by one of the methods listed in the ADDRESSES section.

If you submit information via http://www.regulations.gov, your entire submission—including your personal identifying information—will be posted on the Web site. If your submission is made via a hardcopy that includes personal identifying information, you may request at the top of your document that we withhold this information from public review. However, we cannot guarantee that we will be able to do so. We will post all hardcopy submissions on http://www.regulations.gov.

Comments and materials we receive, as well as supporting documentation we used in preparing this petition finding, will be available for public inspection on http://www.regulations.gov, or by appointment, during normal business hours at the U.S. Fish and Wildlife Service Snake River Fish and Wildlife Office, 1387 S. Vinnell Way, Room 368, Boise, ID 83709; by telephone at 208/378-5243.

Author

The primary authors of this notice are staff of the Snake River Fish and Wildlife Office, U.S. Fish and Wildlife Service.

Authority

The authority for this action is the Endangered Species Act of 1973, as amended (16 U.S.C. 1531 et seq.).

Dated: July 24, 2008.
Kenneth Stansell,
Acting Director, Fish and Wildlife Service.

[FR Doc. E8-18310 Filed 8-11-08; 8:45 am]

BILLING CODE 4310-55-P